ENVIRONMENTAL PROTECTION AGENCY

[FRL-8985-8]

EPA Science Advisory Board Staff Office; Notification of a Meeting of the Health Effects Subcommittee of the Advisory Council on Clean Air Compliance Analysis (Council)

AGENCY: Environmental Protection Agency (EPA).

ACTION: Notice.

SUMMARY: The EPA Science Advisory Board (SAB) Staff Office announces a public face-to-face meeting of the Health Effects Subcommittee (HES) of the Advisory Council on Clean Air Compliance Analysis (Council). The HES, supplemented with additional members from the Council, will review technical assessments related to health benefits analyses and uncertainty analyses to support of the Office of Air and Radiation's Second Section 812 Benefit-Cost Analysis of the Clean Air Act.

DATES: The meeting dates are Tuesday, December 15, 2009, from 8:30 a.m. to 5 p.m. and Wednesday, December 16, 2009, from 8:30 a.m. to 3 p.m. (Eastern Time).

ADDRESSES: The public meeting will be held at the SAB Conference Center at 1025 F Street, NW., Suite 3700, Washington, DC 20004.

FOR FURTHER INFORMATION CONTACT: Members of the public who wish to obtain further information about this meeting may contact Dr. Marc Rigas, Designated Federal Officer (DFO), EPA Science Advisory Board Staff Office (1400F), U.S. Environmental Protection Agency, 1200 Pennsylvania Avenue, NW., Washington, DC 20460; by telephone/voice mail: (202) 343-9978 or at rigas.marc@epa.gov. General information about the Council may be found on the Council Web site at: http://www.epa.gov/advisorycouncilcaa.

SUPPLEMENTARY INFORMATION: Background: Pursuant to the Federal Advisory Committee Act, 5 U.S.C., App. 2 (FACA), notice is hereby given that the Health Effects Subcommittee (HES) of the Advisory Council on Clean Air Compliance Analysis (Council) will hold a public meeting to evaluate draft documents regarding Human Health Benefits and Uncertainty Analyses to Support the Second Section 812 Benefit-Cost Analysis of the Clean Air Act. The Council was established in 1991 pursuant to the Clean Air Act (CAA) Amendments of 1990 (see 42 U.S.C. 7612) to provide advice, information and recommendations on technical and economic aspects of analyses and reports EPA prepares on the impacts of the CAA on the public health, economy, and environment of the United States. The Council is a Federal Advisory Committee chartered under FACA. The HES will provide advice through the Council and will comply with the provisions of FACA and all appropriate SAB Staff Office procedural policies.

Pursuant to Section 812 of the 1990 Clean Air Act Amendments, EPA conducts periodic studies to assess benefits and costs of the EPA's regulatory actions under the Clean Air Act. The Council has provided advice on an EPA retrospective study published in 1997 and an EPA prospective study completed in 1999. EPA initiated a second prospective study to evaluate the costs and benefits of EPA Clean Air programs for years 1990-2020. The Council has previously provided advice on analytic blueprints for this study. EPA's Office of Air and Radiation is now nearing completion of the analytical work for the second prospective study. The December 15-16, 2009 meeting will provide the HES the opportunity to review the technical documents pertaining to human health benefits as well as uncertainty in the benefits and costs estimates.

Technical Contacts: The Office of Air and Radiation technical contact for the Second Section 812 Benefit-Cost Analysis of the Clean Air Act is Mr. Jim DeMocker at (202) 564-1673 or democker.jim@epa.gov.

Availability of Meeting Materials: EPA draft documents (Benefits Analyses to Support the Second Section 812 Benefit-Cost Analysis of the Clean Air Act—Draft (Chapter 1: Introduction and Chapter 2: Human Health Benefits) and Uncertainty Analyses to Support the Second Section 812 Benefit-Cost Analysis of the Clean Air Act—Draft) may be found at: http://www.epa.gov/oar/sect812/prospective2.html.

The meeting agenda for December 15-16, 2009 and any background materials will be posted on the Council Web site (http://www.epa.gov/advisorycouncilcaa) prior to the meeting.

Procedures for Providing Public Input: Interested members of the public may submit relevant written or oral information for the HES to consider on the topics of this advisory activity and/or the group conducting the activity. Oral Statements: In general, individuals or groups requesting an oral presentation at a public meeting will be limited to five minutes per speaker, with no more than one hour for all speakers. Interested parties should contact Dr. Rigas at the contact information provided above by December 8, 2009, to be placed on the public speaker list for the December 15-16, 2009 meeting.

Written Statements: Written statements should be received in the SAB Staff Office by December 8, 2009, so that the information may be made available to the HES for their consideration prior to this meeting. Written statements should be supplied to Dr. Rigas via e-mail to rigas.marc@epa.gov (acceptable file format: Adobe Acrobat PDF, MS Word, MS PowerPoint, or Rich Text files). Submitters are requested to provide two versions of each document submitted with and without original signatures, because the SAB Staff Office does not publish documents with signatures on its Web sites.

Accessibility: For information on access or services for individuals with disabilities, please contact Dr. Marc Rigas at (202) 343-9978, or via e-mail at rigas.marc@epa.gov, preferably at least ten (10) days prior to the meeting, to give EPA as much time as possible to process your request.

Dated: November 19, 2009.
Vanessa T. Vu,
Director, EPA Science Advisory Board Staff Office.

[FR Doc. E9-28407 Filed 11-25-09; 8:45 am]

BILLING CODE 6560-50-P